DEPARTMENT OF ENERGY

Federal Energy Regulatory Commission

[Docket No. Ic14-5-000]

Commission Information Collection Activities (FERC-725d); Comment Request; Extension

AGENCY: Federal Energy Regulatory Commission.

ACTION: Notice of information collection and request for comments.

SUMMARY: In compliance with the requirements of the Paperwork Reduction Act of 1995, 44 USC 3506(c)(2)(A), the Federal Energy Regulatory Commission (Commission or FERC) is soliciting public comment on the currently approved information collection, FERC-725D (Facilities Design, Connections and Maintenance Reliability Standards).

DATES: Comments on the collection of information are due May 2, 2014.

ADDRESSES: You may submit comments (identified by Docket No. IC14-5-000) by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION: Title: Facilities Design, Connections and Maintenance Reliability Standards.

OMB Control No.: 1902-0247.

Type of Request: Three-year extension of the FERC-725D information collection requirements with no changes to the current reporting requirements.

Abstract: The Commission requires the FERC-725D information collection to implement the statutory provisions of Section 215 of the Federal Power Act (FPA).¹ On August 8, 2005, the Electricity Modernization Act of 2005 of the Energy Policy Act of 2005 (EPAct 2005), was enacted into law.² EPAct 2005 added a new Section 215 to the FPA, which required a Commission-certified Electric Reliability Organization (ERO) to develop mandatory and enforceable reliability standards which are subject to Commission review and approval. Once approved, the reliability standards may be enforced by the ERO subject to Commission oversight or the Commission can independently enforce reliability standards.³

¹ 16 U.S.C. 842o.

² Energy Policy Act of 2005, Public Law 109-58, Title XII, Subtitle A, 119 Stat. 594, 941 (2005), 16 U.S.C. 824o.

³ 16 U.S.C .824o(e)(3).

On February 3, 2006, the Commission issued Order No. 672, implementing Section 215 of the FPA. Pursuant to Order No. 672, the Commission certified one organization [North American Electric Reliability Council (NERC)] as the ERO. The reliability standards developed by the ERO and approved by the Commission will apply to users, owners, and operators of the Bulk-Power System (BPS) as set forth in each reliability standard.

On November 15, 2006, NERC filed 20 revised reliability standards and three new reliability standards for Commission approval. The Commission addressed revisions to the 20 Reliability Standards in Order No. 693. The Commission approved the three new reliability standards on 12/27/2007 in Order No. 705 and NERC designated them as follows:

• FAC-010-1 (System Operating Limits Methodology for the Planning Horizon)

• FAC-011-1 (System Operating Limits Methodology for the Operations Horizon)

• FAC-014-1 (Establish and Communicate System Operating Limits).

Subsequently, NERC modified these standards in April of 2008 and submitted to the Commission for approval. On 3/20/2009 the Commission approved NERC's modifications to the FAC standards in Order No. 722 and NERC now designates these standards as FAC-010-2, FAC-011-2, and FAC-014-2. These three approved FAC reliability standards require planning authorities and reliability coordinators to establish methodologies to determine system operating limits (SOLs) for the bulk-power system in the planning and operation horizons.

The three reliability standards do not require responsible entities to file information with the Commission. Nor, with the exception of a three year self-certification of compliance, do the Reliability Standards require responsible entities to file information with the ERO or Regional Entities. However, the Reliability Standards do require responsible entities to develop and maintain certain information for a specified period of time, subject to inspection by the ERO or Regional Entities.

Reliability standard FAC-010-2 requires the planning authority to have a documented methodology for use in developing SOLs and must retain evidence that it issued its SOL methodology to relevant reliability coordinators, transmission operators and adjacent planning authorities. Further, each planning authority must self-certify its compliance to the compliance monitor once every three years. Reliability standard FAC-011-2 requires similar documentation by the reliability coordinator. Reliability standard FAC-014-2 requires the reliability coordinator, planning authority, transmission operator, and transmission planner to verify compliance through self-certification submitted to the compliance monitor annually. These entities must also document that they have developed SOLs consistent with the applicable SOL methodology and that they have provided SOLs to entities identified in Requirement 5 of the reliability standard. Further, the planning authority must maintain a list of multiple contingencies and their associated stability limits.

Type of Respondents: Planning authorities, reliability coordinators, transmission planners, and transmission operators.

Estimate of Annual Burden ⁴: The Commission estimates the total Public Reporting Burden and cost for this information collection as:

⁴ The Commission defines burden as the total time, effort, or financial resources expended by persons to generate, maintain, retain, or disclose or provide information to or for a Federal agency. For further explanation of what is included in the information collection burden, reference 5 Code of Federal Regulations 1320.3.

FERC-725D—(Mandatory Reliability Standards: FAC (Facilities, Design, Connections, and Maintenance)
| Number of respondents | Annual number of responses per respondent | Total number of responses | Average burden hours & cost per response⁵ | Total annual burden hours & total annual cost⁶ | Average annual cost per respondent
| (1) | (2) | (1) * (2) = (3) | (4) | (3) * (4) = (5) | (5) ÷ (1)
Annual Reporting | 470 | 1 | 470 | 295.7 $20,992 | 138,980 $9,866,240 | $20,992
⁵ The estimate for cost per response is derived using the following formula: Total Annual Cost (Column 5) ÷ Total Number of Responses (Column 3) = Average Cost per Response.
⁶ The total annual cost is derived from salary figures from the Bureau of Labor Statistics for two positions involved in the reporting and record-keeping associated with this collection. These figures include salary (http://bls.gov/oes/current/naics2_22.htm) and other associated benefits (http://www.bls.gov/news.release/ecec.nr0.htm): • Manager: $82.36/hour. • Engineer: $59.62/hour. This results in an average hourly wage of $70.99. 138,980 hours (total annual burden) * $70.99/hour = $9,866,240.

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: February 21, 2014.
Kimberly D. Bose,
Secretary.

[FR Doc. 2014-04543 Filed 2-28-14; 8:45 am]

BILLING CODE 6717-01-P